DEPARTMENT OF THE INTERIOR

Minerals Management Service

Agency Information Collection Activities: Submitted for Office of Management and Budget (OMB) Review, Comment Request

AGENCY: Minerals Management Service (MMS), Interior.

ACTION: Notice of extension of a currently approved collection (OMB Control Number 1010-0110).

SUMMARY: To comply with the Paperwork Reduction Act (PRA) of 1995, we are submitting to OMB for review and approval an information collection request (ICR) titled “Training and Outreach Evaluation Forms (Forms MMS-4420 A-H) (OMB Control Number 1010-0110). This ICR was originally titled “Training and Outreach Evaluation Questionnaires.” We are requesting an extension of OMB's approval to continue to collect this information. We are also soliciting your comments on this ICR which describes the information collection, its expected costs and burden, and how the data will be collected.

DATES: Please submit comments on or before July 30, 2001.

ADDRESSES: Please submit comments to the Office of Information and Regulatory Affairs, OMB, Attention: Desk Officer for the Department of the Interior (OMB Control Number 1010-0110), 725 17th Street, NW., Washington, DC 20503. Also, please submit copies of your comments to Carol P. Shelby, Regulations and FOIA Team, Minerals Management Service, Minerals Revenue Management, P.O. Box 25165, MS 320B2, Denver, Colorado 80225. If you use an overnight courier service, our courier address is Building 85, Room A-614, Denver Federal Center, Denver, Colorado 80225.

PUBLIC COMMENT PROCEDURE: Please submit your comments to the offices listed in the ADDRESSES section, or email your comments to us at MRM.comments@mms.gov. Include the title of the information collection, the OMB Control Number in the “Attention” line of your comments, and your name and return address. Submit electronic comments as an ASCII file avoiding the use of special characters and any form of encryption. If you do not receive a confirmation that we have received your email, contact Ms. Shelby at (303) 231-3151, FAX (303) 231-3385. We will post all comments for public review at http://www.mrm.mms.gov.

Also, contact Ms. Shelby to review paper copies of the comments. Our practice is to make comments, including names and addresses of respondents, available for public review during regular business hours at our offices in Lakewood, Colorado. Individual respondents may request that we withhold their home address from the public record, which we will honor to the extent allowable by law. There also may be circumstances in which we would withhold from the public record a respondent's identity, as allowable by law. If you request that we withhold your name and/or address, state this prominently at the beginning of your comments. However, we will not consider anonymous comments. We will make all submissions from organizations or businesses, and from individuals identifying themselves as representatives or officials of organizations or businesses, available for public inspection in their entirety.

FOR FURTHER INFORMATION CONTACT: Carol P. Shelby, telephone (303) 231-3151, FAX (303) 231-3385, email Carol.Shelby@mms.gov. You may also contact Ms. Shelby to obtain at no cost a copy of our submission to OMB, which includes Forms MMS-4420 A-H.

SUPPLEMENTARY INFORMATION: Title: Training and Outreach Evaluation Forms.

OMB Control Number: 1010-0110.

Bureau Form Number: Forms MMS-4420 A-H .

Abstract: The Department of the Interior is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws.

MMS frequently provides training and outreach to its constituents to facilitate their compliance with laws and regulations and to ensure that they are well informed. We present training sessions to the oil and gas payors and solid minerals reporters on various aspects of royalty reporting, production reporting, newly reengineered reporting forms, and new valuation regulations. We also provide outreach sessions to individual Indian minerals owners, Indian Tribes, and the Bureau of Indian Affairs on Indian royalty management issues. Additionally, we provide training sessions to our financial and systems contractors and State and Tribal auditors.

MMS asks participants to complete and return evaluation forms at the end of each training or outreach session. Some questions are uniform across all of the evaluation forms. However, we also ask questions specific to each type of training or outreach or questions specific to that particular group of participants. We use the feedback from these evaluation forms to enhance future training and outreach sessions and to improve our services. Responses are voluntary. No proprietary, confidential, or sensitive information is collected.

Frequency: On occasion.

Estimated Number and Description of Respondents: 5,000 industry representatives; State auditors; Indian Tribes, allottees, and auditors; MMS contractors and employees.

Estimated Annual Reporting and Recordkeeping “Hour” Burden: 350 hours.

Estimated Annual Reporting and Recordkeeping “Non-hour Cost” Burden: There are no “non-hour costs” burdens identified for this collection.

Comments: The PRA provides that an agency shall not conduct or sponsor, and a person is not required to respond to, a collection of information unless it displays a currently valid OMB Control Number. Section 3506(c)(2)(A) of the PRA requires each agency ”* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a Federal Register Notice on August 1, 2000 (65 FR 46942), with the required 60-day comment period, soliciting comments on this information collection. No comments were received.

If you wish to comment in response to this Notice, send your comments directly to the offices listed under the ADDRESSES section of this Notice. OMB has up to 60 days to approve or disapprove the information collection but may response after 30 days. Therefore, to ensure maximum consideration, OMB should receive public comments by July 30, 2001.

MMS Information Collection Clearance Officer: Jo Ann Lauterbach, telephone (202) 208-7744.

Dated: June 21, 2001.
Lucy Querques Denett,
Associate Director for Minerals Revenue Management.

[FR Doc. 01-16385 Filed 6-28-01; 8:45 am]

BILLING CODE 4310-MR-U